ENVIRONMENTAL PROTECTION AGENCY

[ER-FRL-9043-5]

Environmental Impact Statements; Notice of Availability

Responsible Agency: Office of Federal Activities, General Information 202-564-5632 or https://www.epa.gov/nepa/.

Weekly receipt of Environmental Impact Statements

Filed 02/11/2019 Through 02/14/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190014, Draft, FERC, CA, Don Pedro Hydroelectric Project and La Grange Hydroelectric Project, Comment Period Ends: 04/08/2019, Contact: Office of External Affairs 866-208-3372

EIS No. 20190015, Draft, TVA, TN, 2019 Draft Integrated Resource Plan, Comment Period Ends: 04/08/2019, Contact: Ashley Pilakowski 865-632-2256

EIS No. 20190016, Final, NSF, WV, Green Bank Observatory, Green Bank, West Virginia, Review Period Ends: 03/25/2019, Contact: Elizabeth Pentecost 703-292-4907

Dated: February 15, 2019.
Robert Tomiak,
Director, Office of Federal Activities.

[FR Doc. 2019-02913 Filed 2-21-19; 8:45 am]

BILLING CODE 6560-50-P